DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 24, 2010. Address written comments to Statutory Import Programs Staff, Room 3720, U.S. Department of Commerce, Washington, D.C. 20230. Applications may be examined between 8:30 A.M. and 5:00 P.M. at the U.S. Department of Commerce in Room 3720.

Docket Number: 10-038. Applicant: Emory University, 1599 Clifton Rd., Atlanta, GA 30322. Instrument: Electron Microscope. Manufacturer: JEOL, Ltd., Japan. Intended Use: The instrument will be used for the fine structural examination of biological and soft/hard materials specimens. Justification for Duty-Free Entry: There are no instruments of the same general category being manufactured in the United States. Application accepted by Commissioner of Customs: July 13, 2010.

Docket Number: 10-049. Applicant: Health Research, Inc., New York State Department of Health, Wadsworth Center, Riverview Center 150 Broadway, Suite 560 Menands, NY 12204-2719. Instrument: Electron Microscope. Manufacturer: JEOL, Ltd., Japan. Intended Use: This instrument will be used to study biological material including cells and tissues of any and all types. The This instrument allows specific proteins to be visualized in the context of overall cellular architecture. It also has the resolution needed to image the macromolecule directly and to determine the shape, and even the quasi-atomic structure of the macromolecule. Justification for Duty-Free Entry: There are no instruments of the same general category being manufactured in the United States. Application accepted by Commissioner of Customs: July 13, 2010.

Docket Number: 10-051. Applicant: Regents of the University of California at San Diego, 9500 Gilman Drive, MC 0651 GPL Building, Room H204, La Jolla, CA 92093-0651. Instrument: Electron Microscope. Manufacturer: FEI Company, Czech Republic. Intended Use: This instrument will be used to study ultrathin (70 nm) sections of fixed and frozen and/or fixed and plastic-embedded mammalian tissues and cultured cells, bacteria, viruses, fish and nanoparticles. The instrument will be used to look at samples and specimens that are mounted on EM (electron microscope) grids, using negative staining, plastic embedding and ultrathin sectioning of fixed tissues or cells, and immunolabeling of ultrathin cryosections of frozen fixed tissues or cells. Justification for Duty-Free Entry: There are no instruments of the same general category being manufactured in the United States. Application accepted by Commissioner of Customs: July 14, 2010.

Dated: July 28, 2010.
Gregory W. Campbell,
Acting Director, IA Subsidies Enforcement Office.

[FR Doc. 2010-19185 Filed 8-3-10; 8:45 am]

BILLING CODE 3510-DS-S